DEPARTMENT OF AGRICULTURE

Food Safety and Inspection Service

[Docket No. FSIS-2024-0019]

National Advisory Committee on Meat and Poultry Inspection

AGENCY: Food Safety and Inspection Service (FSIS), Department of Agriculture (USDA).

ACTION: Notification of public meeting.

SUMMARY: Pursuant to the provisions of the rules and regulations of the Department of Agriculture and the Federal Advisory Committee Act (FACA), FSIS is announcing a virtual meeting of the National Advisory Committee on Meat and Poultry Inspection (NACMPI). The purpose of the Committee is to advise the Secretary of Agriculture on State and Federal meat and poultry inspection programs, food safety, and other matters that fall within the scope of the Federal Meat Inspection Act (FMIA) and the Poultry Products Inspection Act (PPIA). The committee will convene virtually on September 16 and 17, 2024. The Committee will review and advise FSIS on whether the Agency should change its definitions for establishment sizes to better assess and describe current business operations. The Committee will also offer input on ways technology could enhance FSIS' inspection activities.

DATES: The public meeting is from 10 a.m. to 4 p.m. EDT on September 16 and 17, 2024.

ADDRESSES: The meeting is virtual and will be viewable via a link provided by email when you register for the meeting. Attendees must pre-register for the meeting. See the pre-registration instructions under “Registration and Meeting Materials.”

Public Comments: FSIS invites interested persons to submit comments on this meeting by September 16, 2024. Comments may be submitted by any of the following methods:

• Federal eRulemaking Portal: This website provides the ability to type short comments directly into the comment field on this web page or attach a file for lengthier comments. Go to https://www.regulations.gov. Follow the on-line instructions at that site for submitting comments.

• Mail: Send to Docket Clerk, U.S. Department of Agriculture, Food Safety and Inspection Service, 1400 Independence Avenue SW, Mailstop 3758, Washington, DC 20250-3700.

• Hand- or Courier-Delivered Submittals: Deliver to 1400 Independence Avenue SW, Jamie L. Whitten Building, Room 350-E, Washington, DC 20250-3700.

Instructions: All items submitted by mail or electronic mail must include the Agency name and docket number FSIS-2024-0019. Comments received in response to this docket will be made available for public inspection and posted without change, including any personal information, to https://www.regulations.gov.

Docket: For access to background documents or comments received, call 202-720-5046 to schedule a time to visit the FSIS Docket Room at 1400 Independence Avenue SW, Washington, DC 20250-3700.

FOR FURTHER INFORMATION CONTACT: Katrina Green, Director, Resource and Administrative Management Staff—Designated Federal Officer, Office of Policy and Program Development, by email at NACMPI@usda.gov or telephone at 202-205-0495 regarding specific questions about the Committee or this meeting. General information about the Committee can also be found at: https://www.fsis.usda.gov/nacmpi. For the hearing impaired, contact the Federal Information Relay Service: https://www.federalrelay.us/ or 800-877-0996 (Voice, TTY, ASCII or Spanish).

SUPPLEMENTARY INFORMATION:

Background

The NACMPI was established in 1971 and is authorized under section 301(a)(4) of the FMIA (21 U.S.C. 661(a)(4)) to carry out the responsibilities imposed by 21 U.S.C. 607(c), 624, 645, 661(a)(3), and 661(c), and authorized under 21 U.S.C. 454(a)(4) of the PPIA, to carry out the responsibilities imposed by 21 U.S.C. 454(a)(3), 454(c), 457(b), and 460(e). The purpose of the Committee is to provide advice to the Secretary on meat and poultry inspection programs, food safety, and other matters that fall within the scope of the FMIA and PPIA. The current charter and other information about NACMPI can be found at https://www.fsis.usda.gov/policy/advisory-committees/national-advisory-committee-meat-and-poultry-inspection-nacmpi. Membership of NACMPI is drawn from consumers; public health and academic communities; state and local governments; and industry.

On September 16 and 17, 2024, NACMPI will review and advise FSIS on whether the Agency should change its definitions for establishment size categories (i.e., large, small, and very small) to better assess and describe current business operations as well as to better determine the impact of FSIS policies on different size establishments.¹ The Committee will also offer input on ways technology could enhance FSIS' inspection activities. The two issues will be presented to the full Committee. The Committee will then divide into two subcommittees to discuss the issues. Each subcommittee will provide a report of their comments and recommendations to the full Committee before the meeting concludes on September 17, 2024.

¹ FSIS categorizes establishments using the following criteria: large establishments have 500 or more employees; small establishments have 10 or more employees, but fewer than 500; and very small establishments have fewer than 10 employees or annual sales of less than $2.5 million (see 61 FR 38806).

An agenda will be published online before the public meeting. FSIS will finalize the agenda on or before the meeting dates and post it on the FSIS website at: http://www.fsis.usda.gov/meetings.

Registration and Meeting Materials

There is no fee to register for the public meeting, but pre-registration is mandatory for participants attending. All attendees must register online at https://www.fsis.usda.gov/policy/advisory-committees/nacmpi/meeting-registration.

Public Comments and Participation in Meetings

Stakeholders will have an opportunity to provide oral comments during the public meeting. Stakeholders must notify FSIS during registration of their wish to speak at the meeting. Stakeholders who do not notify FSIS during registration of their wish to speak will not have the opportunity to comment on the day of the public meeting. Due to the anticipated high level of interest in the opportunity to make public comments and the limited time available to do so, FSIS will do its best to accommodate all persons who registered and requested to provide oral comments and will limit all speakers to three minutes. FSIS encourages persons and groups who have similar interests to consolidate their information for presentation by a single representative.

Transcripts

As soon as the meeting transcripts are available, they will be accessible on the FSIS website at: https://www.fsis.usda.gov/policy/advisory-committees/national-advisory-committee-meat-and-poultry-inspection-nacmpi. The transcripts may also be viewed at the FSIS Docket Room at the address listed above.

Additional Public Notification

Public awareness of all segments of rulemaking and policy development is important. Consequently, FSIS will announce this Federal Register publication on-line through the FSIS web page located at: https://www.fsis.usda.gov/federal-register.

FSIS will also announce and provide a link to this Federal Register publication through the FSIS Constituent Update, which is used to provide information regarding FSIS policies, procedures, regulations, Federal Register notices, FSIS public meetings, and other types of information that could affect or would be of interest to our constituents and stakeholders. The Constituent Update is available on the FSIS web page. Through the web page, FSIS can provide information to a much broader, more diverse audience. In addition, FSIS offers an email subscription service which provides automatic and customized access to selected food safety news and information. This service is available at: https://www.fsis.usda.gov/subscribe. Options range from recalls to export information, regulations, directives, and notices. Customers can add or delete subscriptions themselves and have the option to password protect their accounts.

USDA Non-Discrimination Statement

In accordance with Federal civil rights law and USDA civil rights regulations and policies, the USDA, its Agencies, offices, and employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

To file a program discrimination complaint, complete the USDA Program Discrimination Complaint Form, AD-3027, found online at https://www.usda.gov/forms/electronic-forms and at any USDA office or write a letter addressed to USDA and provide in the letter all of the information requested in the form. To request a copy of the complaint form, call (866) 632-9992. Submit your completed form or letter to USDA by:

(1) Mail: U.S. Department of Agriculture, Office of the Assistant Secretary for Civil Rights, 1400 Independence Avenue SW, Washington, DC 20250-9410;

(2) Fax: (202) 690-7442; or

(3) Email: program.intake@usda.gov.

USDA is an equal opportunity provider, employer, and lender. Equal opportunity practices in accordance with USDA's policies will be followed in all member appointments to the committee. To ensure that the recommendations of the committee consider the needs of the diverse groups served by USDA, membership shall include, to the extent practicable, individuals with demonstrated ability to represent the many communities, identities, races, ethnicities, backgrounds, abilities, cultures, and beliefs of the American people, including underserved communities.

Dated: August 12, 2024.
Cikena Reid,
USDA Committee Management Officer.

[FR Doc. 2024-18326 Filed 8-15-24; 8:45 am]

BILLING CODE 3410-DM-P